DEPARTMENT OF HOMELAND SECURITY

Transportation Security Administration

Reports, Forms, and Record Keeping Requirements: Agency Information Collection Activity Under OMB Review; Law Enforcement Officer Flying Armed Training

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden. TSA published a Federal Register notice, with a 60-day comment period soliciting comments, of the following collection of information on January 26, 2005, 70 FR 3726.

DATES: Send your comments by July 22, 2005. A comment to OMB is most effective if OMB receives it within 30 days of publication.

ADDRESSES: Comments may be faxed to the Office of Information and Regulatory Affairs, Office of Management and Budget, Attention: DHS-TSA Desk Officer, at (202) 395-5806

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: Law Enforcement Officer Flying Armed Training.

Type of Request: New collection.

OMB Control Number: Not yet assigned.

Form(s): NA.

Affected Public: State and local law enforcement officers.

Abstract: Under the Aviation and Transportation Security Act (ATSA) (Pub. L. 107-71) (codified at 49 U.S.C. 44918), TSA is required to manage the training and certification of state and local law enforcement officers (LEOs) needing to fly armed on commercial air carriers. To satisfy this requirement, TSA will establish a web-based training course accessible to LEO personnel by way of a controlled access Internet-based portal. LEOs are required to submit employment and identifying information online to confirm their eligibility to take this training course. TSA is exploring the option of soliciting written feedback on the course from the LEOs after they complete the training. Any request for feedback would be voluntary and anonymous.

TSA also will offer this training course to Federal law enforcement agencies via CD-ROM or during basic training courses that LEOs attend at the Federal training academies. TSA will not require Federal LEOs to submit employment and identifying information due to the different method by which the course is administered to them, unless these Federal LEOs choose to take the training course online as a refresher.

Number of Respondents: 40,000.

Estimated Annual Burden Hours: An estimated 4,666 hours annually. The burden estimate originally stated in TSA's January 26, 2005, notice has been reduced after further program development.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on June 16, 2005.
Lisa S. Dean,
Privacy Officer.

[FR Doc. 05-12337 Filed 6-21-05; 8:45 am]

BILLING CODE 4910-62-P